DEPARTMENT OF ENERGY

Federal Energy Regulatory Commission

Combined Notice of Filings #1

Take notice that the Commission received the following electric corporate filings:

Docket Numbers: EC25-132-000.

Applicants: Cherry Valley PV I, LLC.

Description: Application for Authorization Under Section 203 of the Federal Power Act of Cherry Valley PV I, LLC.

Filed Date: 8/18/25.

Accession Number: 20250818-5175.

Comment Date: 5 p.m. ET 9/8/25.

Take notice that the Commission received the following exempt wholesale generator filings:

Docket Numbers: EG25-475-000.

Applicants: Foley Solar, LLC.

Description: Foley Solar, LLC submits Notice of Self-Certification of Exempt Wholesale Generator Status.

Filed Date: 8/19/25.

Accession Number: 20250819-5071.

Comment Date: 5 p.m. ET 9/9/25.

Docket Numbers: EG25-476-000.

Applicants: Old Hayneville Solar, LLC.

Description: Old Hayneville Solar, LLC submits Notice of Self-Certification of Exempt Wholesale Generator Status.

Filed Date: 8/19/25.

Accession Number: 20250819-5073.

Comment Date: 5 p.m. ET 9/9/25.

Take notice that the Commission received the following electric rate filings:

Docket Numbers: ER25-2561-001.

Applicants: IP Energy Marketing, LLC.

Description: Tariff Amendment: Amendment to Application for Market-Based Rate Authority to be effective 8/20/2025.

Filed Date: 8/19/25.

Accession Number: 20250819-5100.

Comment Date: 5 p.m. ET 8/29/25.

Docket Numbers: ER25-3209-000.

Applicants: Linden VFT, LLC.

Description: Linden VFT, LLC submits a Request for Order Confirming its Previously Granted Negotiated Rate Authority and waiver.

Filed Date: 8/15/25.

Accession Number: 20250815-5221.

Comment Date: 5 p.m. ET 9/5/25.

Docket Numbers: ER25-3221-000.

Applicants: PJM Interconnection, L.L.C.

Description: § 205(d) Rate Filing: Amendment to ISA, Service Agreement No. 6475; AE1-079 to be effective 10/18/2025.

Filed Date: 8/18/25.

Accession Number: 20250818-5158.

Comment Date: 5 p.m. ET 9/8/25.

Docket Numbers: ER25-3222-000.

Applicants: Midcontinent Independent System Operator, Inc.

Description: § 205(d) Rate Filing: 2025-08-19_SA 2884 OTP-Crowned Ridge 4th Rev GIA (G736 J442) to be effective 8/13/2025.

Filed Date: 8/19/25.

Accession Number: 20250819-5000.

Comment Date: 5 p.m. ET 9/9/25.

Docket Numbers: ER25-3223-000.

Applicants: PJM Interconnection, L.L.C.

Description: § 205(d) Rate Filing: Amendment to ISA, Service Agreement No. 6454; Queue No. AE1-237 to be effective 10/19/2025.

Filed Date: 8/19/25.

Accession Number: 20250819-5047.

Comment Date: 5 p.m. ET 9/9/25.

Docket Numbers: ER25-3227-000.

Applicants: Southern California Edison Company.

Description: § 205(d) Rate Filing: LGIA, Elion Energy Storage (TOT1059/Q2064-SA No. 350) to be effective 8/20/2025.

Filed Date: 8/19/25.

Accession Number: 20250819-5080.

Comment Date: 5 p.m. ET 9/9/25.

Docket Numbers: ER25-3228-000.

Applicants: Oak Lessee, LLC.

Description: § 205(d) Rate Filing: Normal filing 2025 COC to be effective 7/3/2025.

Filed Date: 8/19/25.

Accession Number: 20250819-5110.

Comment Date: 5 p.m. ET 9/9/25.

Docket Numbers: ER25-3229-000.

Applicants: Okolona Solar, LLC.

Description: § 205(d) Rate Filing: Okolona Solar MBR Application to be effective 10/21/2025.

Filed Date: 8/19/25.

Accession Number: 20250819-5111.

Comment Date: 5 p.m. ET 9/9/25.

Docket Numbers: ER25-3230-000.

Applicants: Tri-State Generation and Transmission Association, Inc.

Description: § 205(d) Rate Filing: Amendment to Rate Schedule FERC No. 8 to be effective 8/19/2025.

Filed Date: 8/19/25.

Accession Number: 20250819-5119.

Comment Date: 5 p.m. ET 9/9/25.

Docket Numbers: ER25-3231-000.

Applicants: MRP Elgin LLC.

Description: Tariff Amendment: Cancellation Rate Schedule No. 1 to be effective 12/31/9998.

Filed Date: 8/19/25.

Accession Number: 20250819-5126.

Comment Date: 5 p.m. ET 9/9/25.

Docket Numbers: ER25-3232-000.

Applicants: MRP Rocky Road LLC.

Description: Tariff Amendment: Cancellation Rate Schedule No. 1 to be effective 12/31/9998.

Filed Date: 8/19/25.

Accession Number: 20250819-5128.

Comment Date: 5 p.m. ET 9/9/25.

Docket Numbers: ER25-3233-000.

Applicants: Bucksport Generation LLC.

Description: § 205(d) Rate Filing: Bucksport Generation LLC, IROL-CIP Rate Schedule 17 to be effective 10/18/2025.

Filed Date: 8/19/25.

Accession Number: 20250819-5133.

Comment Date: 5 p.m. ET 9/9/25.

Docket Numbers: ER25-3234-000.

Applicants: Foley Solar, LLC.

Description: § 205(d) Rate Filing: Foley Solar, LLC MBR Tariff to be effective 10/19/2025.

Filed Date: 8/19/25.

Accession Number: 20250819-5135.

Comment Date: 5 p.m. ET 9/9/25.

Docket Numbers: ER25-3235-000.

Applicants: Old Hayneville Solar, LLC.

Description: § 205(d) Rate Filing: Old Hayneville Solar, LLC MBR Tariff to be effective 10/19/2025.

Filed Date: 8/19/25.

Accession Number: 20250819-5136.

Comment Date: 5 p.m. ET 9/9/25.

Take notice that the Commission received the following electric securities filings:

Docket Numbers: ES25-68-000.

Applicants: DesertLink, LLC.

Description: Application Under Section 204 of the Federal Power Act for Authorization to Issue Securities of DesertLink, LLC.

Filed Date: 8/15/25.

Accession Number: 20250815-5228.

Comment Date: 5 p.m. ET 9/5/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organization, Tribal members and others, access publicly available information and navigate Commission processes. For public inquiries and assistance with making filings such as interventions, comments, or requests for rehearing, the public is encouraged to contact OPP at (202) 502-6595 or OPP@ferc.gov.

Dated: August 19, 2025.
Carlos D. Clay,
Deputy Secretary.

[FR Doc. 2025-16104 Filed 8-21-25; 8:45 am]

BILLING CODE 6717-01-P